DEPARTMENT OF THE INTERIOR

National Park Service

[NPS-WASO-NAGPRA-NPS0030316; PPWOCRADN0-PCU00RP14.R50000]

Notice of Inventory Completion: Central Washington University, Ellensburg, WA, and Thomas Burke Memorial Washington State Museum, University of Washington, Seattle, WA

AGENCY: National Park Service, Interior.

ACTION: Notice.

SUMMARY: Central Washington University and the Thomas Burke Memorial Washington State Museum (Burke Museum) have completed an inventory of human remains and associated funerary objects, in consultation with the appropriate Indian Tribes or Native Hawaiian organizations and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to Central Washington University or the Burke Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Central Washington University or the Burke Museum at the address in this notice by July 10, 2020.

ADDRESSES: Lourdes Henebry-DeLeon, Department of Anthropology, Central Washington University, 400 East University Way, Ellensburg, WA 98926-7544, telephone (509) 963-2671, email Lourdes.Henebry-DeLeon@cwu.edu and Peter Lape, Burke Museum, University of Washington, Box 353010, Seattle, WA 98195, telephone (206) 685-3849 Ext. 2, email plape@uw.edu.

SUPPLEMENTARY INFORMATION: Notice is here given in accordance with the Native American Graves Protection and Repatriation Act (NAGPRA), 25 U.S.C. 3003, of the completion of an inventory of human remains and associated funerary objects under the control of Central Washington University, Ellensburg, WA, and the Thomas Burke Memorial Washington State Museum, University of Washington, Seattle, WA. The human remains and associated funerary objects were removed from near the Sultan River near the city of Sultan, Snohomish County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Central Washington University and Burke Museum professional staff in consultation with representatives of the Snoqualmie Indian Tribe (previously listed as Snoqualmie Tribe, Washington) and the Tulalip Tribes of Washington (previously listed as Tulalip Tribes of the Tulalip Reservation, Washington).

History and Description of the Remains

At an unknown date, human remains representing, at minimum, two individuals were removed from near the Sultan River, a branch of the Skykomish River, near the city of Sultan in Snohomish County, WA. The human remains and associated funerary objects were removed by Mr. Dennis Osier and Mr. Robert Franz and donated to the Burke Museum in 1966 (Burke Accn. #1966-75). In 1974, the Burke Museum legally transferred the human remains to Central Washington University (CWU Accn. BN). No known individuals were identified. The 15 funerary objects are one leather shoe, one shell button, one lot of wool fragments, and 12 rusted nails. The funerary objects are still in the possession of the Burke Museum.

The human remains have been determined to be Native American based on osteological and archeological evidence. The presence of copper staining on the human remains is consistent with historic Native American burial practices in this area. The city of Sultan is situated at the confluence of the Skykomish and Sultan Rivers and was previously the site of a large permanent Skykomish village. Information provided during consultations, as well as historical and anthropological sources, indicate that the area around Sultan is within the traditional territory of the Skykomish and Snohomish (Haeberlin and Gunther, 1930; Hollenbeck, 1987). Ruby and Brown (1986), Suttles (1990) and Spier (1936) associate the area around the Sultan River with the Skykomish. Mooney (1896) associates the area around the Sultan River with the Snohomish. The Skykomish and Snohomish people relocated to the Tulalip Reservation per the Point Elliot Treaty of 1855. The present-day Tulalip Tribes of Washington are the successors in interest to the Skykomish and Snohomish.

Determinations Made by Central Washington University and the Burke Museum

Officials of Central Washington University and the Burke Museum have determined that:

• Pursuant to 25 U.S.C. 3001(9), the human remains described in this notice represent the physical remains of two individuals of Native American ancestry.

• Pursuant to 25 U.S.C. 3001(3)(A), the 15 objects described in this notice are reasonably believed to have been placed with or near individual human remains at the time of death or later as part of the death rite or ceremony.

• Pursuant to 25 U.S.C. 3001(2), there is a relationship of shared group identity that can be reasonably traced between the Native American human remains and associated funerary objects and the Tulalip Tribes of Washington (previously listed as Tulalip Tribes of the Tulalip Reservation, Washington).

Additional Requestors and Disposition

Lineal descendants or representatives of any Indian Tribe or Native Hawaiian organization not identified in this notice that wish to request transfer of control of these human remains and associated funerary objects should submit a written request with information in support of the request to Lourdes Henebry-DeLeon, Department of Anthropology, Central Washington University, 400 East University Way, Ellensburg, WA 98926-7544, telephone (509) 963-2671, email Lourdes.Henebry-DeLeon@cwu.edu, and Peter Lape, Burke Museum, University of Washington, Box 353010, Seattle, WA 98195, telephone (206) 685-3849 Ext. 2, email plape@uw.edu, by July 10, 2020. After that date, if no additional requestors have come forward, transfer of control of the human remains and associated funerary objects to the Tulalip Tribes of Washington (previously listed as Tulalip Tribes of the Tulalip Reservation, Washington) may proceed.

Central Washington University and the Burke Museum are responsible for notifying the Snoqualmie Indian Tribe (previously listed as Snoqualmie Tribe, Washington) and the Tulalip Tribes of Washington (previously listed as Tulalip Tribes of the Tulalip Reservation, Washington) that this notice has been published.

Dated: May 11, 2020.
Melanie O'Brien,
Manager, National NAGPRA Program.

[FR Doc. 2020-12551 Filed 6-9-20; 8:45 am]

BILLING CODE 4312-52-P